DEPARTMENT OF THE INTERIOR

Bureau of Land Management

[WO-230-1020-PB-24 1A]

Submission to Office of Management and Budget—Information Collection, OMB Control Number 1004-0001

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by February 20, 2007 to receive maximum consideration.

ADDRESSES: Send comments to the OMB, Interior Department Desk Officer (1004-0001), at OMB-OIRA via e-mail OIRA_DOCKET@omb.eop.gov or via facsimile at (202) 395-6566. Also please send a copy of your comments to BLM via Internet and include your name, address, and ATTN: 1004-0001 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On March 6, 2006, the BLM published a notice in the Federal Register (71 FR 11223) requesting comments on the information collection. The comment period closed on May 5, 2006. The BLM did not receive any comments. We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Free Use Application and Permit (Vegetative or Mineral Materials) (43 CFR parts 3620 and 5510).

OMB Control Number: 1004-0001.

Abstract: The BLM uses Form 5510-1, Free Use Application and Permit (Vegetative or Mineral Material), under 43 CFR part 5510 to collect this information. The PL-167, Surface Resources Act of July 23, 1955, gives the Secretary the discretion to permit the free use of vegetative or mineral materials for use other than commercial or industrial purposes or resale. The Secretary of the Interior may also permit mining claimants the free use of vegetative or mineral materials.

BLM uses the information provided by the applicant(s) to:

(1) Maintain an inventory of vegetative and mineral information; and

(2) Adjudicate your rights to vegetative and mineral resources.

An applicant must file an application for a permit before removing any vegetative or mineral resources from the public lands.

Burden Estimate Per Form: We estimate it takes 5 minutes to complete Form 5510-1. Individuals (residents of states) submit the form on occasion to the BLM.

Annual Responses: 476.

Application Fee Per Response: 0.

Annual Burden Hours: 40.

Dated: January 11, 2007.
Ted R. Hudson,
Bureau of Land Management, Acting Division Chief Regulatory Affairs.

[FR Doc. 07-167 Filed 1-17-07; 8:45 am]

BILLING CODE 4310-84-M